DEPARTMENT OF JUSTICE

Office of Justice Programs

[OJP (OJP) Docket No. 1671]

Meeting of the Public Safety Officer Medal of Valor Review Board

AGENCY: Bureau of Justice Assistance, DOJ.

ACTION: Notice of meeting.

SUMMARY: This is an announcement of a meeting (in-person and virtual) of the Public Safety Officer Medal of Valor Review Board, primarily intended to consider nominations for the 2013-2014 Medal of Valor. Additional issues of importance to the Board will also be discussed, to include but not limited to a discussion about a joint presentation ceremony to recognize and award the 2011-2012, and 2012-2013, Medal of Valor to the recipients from those award years. The meeting/conference call date and time is listed below.

DATES: September 25, 2014, 9:00 a.m. to 12:00 p.m. (ET).

ADDRESSES: This meeting will be held at the Office of Justice Programs, and will also support participation of Members via conference call-in.

FOR FURTHER INFORMATION CONTACT: Gregory Joy, Policy Advisor, Bureau of Justice Assistance, Office of Justice Programs, 810 7th Street NW., Washington, DC 20531, by telephone at (202) 514-1369, toll free (866) 859-2687, or by email at Gregory.Joy@usdoj.gov.

SUPPLEMENTARY INFORMATION: The Public Safety Officer Medal of Valor Review Board carries out those advisory functions specified in 42 U.S.C. 15202. Pursuant to 42 U.S.C. 15201, the President of the United States is authorized to award the Public Safety Officer Medal of Valor, the highest national award for valor by a public safety officer.

The purpose of this meeting/conference call is primarily to consider nominations for the 2013-2014 Medal of Valor, and make a limited number of recommendations for submission to the U.S. Attorney General. Additional issues of importance to the Board will also be covered, to include but not limited to a discussion about a joint presentation ceremony to recognize and award the 2011-2012, and 2012-2013, Medal of Valor to the recipients from those award years.

This meeting is open to the public at the Office of Justice Programs. For security purposes, members of the public who wish to participate must register at least seven (7) days in advance of the meeting/conference call by contacting Mr. Joy. All interested participants will be required to meet at the Bureau of Justice Assistance, Office of Justice Programs; 810 7th Street NW., Washington, DC and will be required to sign in at the front desk. Note: Photo identification will be required for admission. Additional identification documents may be required.

Access to the meeting will not be allowed without prior registration. Anyone requiring special accommodations should contact Mr. Joy at least seven (7) days in advance of the meeting. Please submit any comments or written statements for consideration by the Review Board in writing at least seven (7) days in advance of the meeting date.

Gregory Joy,
Policy Advisor/Designated Federal Officer, Bureau of Justice Assistance.

[FR Doc. 2014-20435 Filed 8-26-14; 8:45 am]

BILLING CODE 4410-18-P